SMALL BUSINESS ADMINISTRATION

[Declaration of Disaster #P077]

State of Alaska (Amendment #1)

In accordance with a notice received from the Department of Homeland Security—Federal Emergency Management Agency, effective November 30, 2004, the above numbered Public Assistance declaration is hereby amended to include the Kashunamiut (Chevak) Regional Educational Attendance Area (REAA), the Lower Kuskokwim REAA, the Lower Yukon REAA, and the Pribilof Island REAA in the State of Alaska as disaster areas due to damages caused by a severe winter storm, tidal surges and flooding occurring on October 18 through 20, 2004. All other information remains the same, i.e., the deadline for filing applications for physical damage is January 14, 2005.

(Catalog of Federal Domestic Assistance Program Nos. 59008).
Dated: December 2, 2004.
Herbert L. Mitchell,
Associate Administrator for Disaster Assistance.

[FR Doc. 04-27086 Filed 12-8-04; 8:45 am]

BILLING CODE 8025-01-P